DEPARTMENT OF AGRICULTURE

Forest Service

Notice of New Fee Site; Federal Lands Recreation Enhancement Act, (Title VIII, Pub. L. 108-447)

AGENCY: Tonto National Forest, USDA Forest Service.

ACTION: Notice of New Fee Site.

SUMMARY: The Tonto National Forest plans to implement a $6 per vehicle per night fee for overnight camping at Haigler Canyon Recreation Site. This site is undergoing major improvements which will increase facilities and services available to the public. Fees paid at similar recreation sites on the Tonto National Forest demonstrate that the public appreciates and enjoys the availability of developed campgrounds and is willing to pay reasonable fees for use of such sites. Funds from the fee revenue will be used for the continued operation and maintenance of Haigler Canyon Recreation Site.

DATES: Haigler Canyon will become available for recreation use in July, 2007.

ADDRESSES: Forest Supervisor, Tonto National Forest, 2325 E. McDowell Rd., Phoenix, AZ 85006.

FOR FURTHER INFORMATION CONTACT: Dave Killebrew, Recreation Fee Coordinator, 602-225-5239.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Tonto National Forest currently has over 50 recreation sites where use fees are charged. A business analysis has shown that people desire having this sort of recreation experience on the Tonto National Forest. A market analysis indicates that the $6 per vehicle per night fee is both reasonable and acceptable for camping at Haigler Canyon. Once the site is complete, visitors wanting to stay overnight at Haigler Canyon Recreation Site can obtain camping passes at more than 100 commercial vendors in central Arizona including at least three locations in Payson, Arizona or at any Tonto National Forest administrative office including the Payson and Pleasant Valley ranger stations. An on-site fee payment option may also be provided. Details about the Tonto fee program can be found at the Tonto National Forest Web site, www.fs.fed.us/r3/tonto or by calling 602-225-5200.

Dated: January 11, 2007.
Gene Blankenbaker,
Tonto National Forest Supervisor.

[FR Doc. 07-204 Filed 1-18-07; 8:45 am]

BILLING CODE 3410-11-M